DEPARTMENT OF JUSTICE

Notice of Lodging of Consent Decree Pursuant to Toxic Substances Control Act

Notice is hereby given that on September 18, 2007, a proposed consent decree in United States, et al. v. Transformer Services Inc., 1:07-cv-00296-SM, was lodged with the United States District Court for the District of New Hampshire.

The proposed Consent Decree will settle the United States' claims for violations of the Toxic Substances Control Act, 15 U.S.C. 2601, et seq., related to Transformer Services Inc.'s, (“TSI”) failure to dispose of PCB waste within one year from the date the waste was designated for disposal. Pursuant to the proposed Consent Decree, TSI will continue compliance with the terms of the January 30, 2001 Consent Agreement and Order except that, beginning on the effective date of the proposed Consent Decree, TSI agrees to fund the closure trust fund at $1500 per month (instead of the current $700 per month). The proposed Consent Decree further sets forth an enforceable schedule for TSI to finalize a clean-up resulting from a minor release of PCBs at its facility.

The Department of Justice will receive for a period of thirty (30) days from the date of this publication comments relating to the proposed consent decree. Comments should be addressed to the Assistant Attorney General of the Environment and Natural Resources Division, and either e-mailed to pubcomment-ees.enrd@usdoj.gov or mailed to P.O. Box 7611, Department of Justice, Washington, DC 20044-7611, and should refer to United States, et al. v. Transformer Services Inc., D.J. Ref. 90-5-1-1-08721.

The Consent Decree may be examined at the Office of the United States Attorney, District of New Hampshire, 55 Pleasant Street, Concord, New Hampshire, and at the United States Environmental Protection Agency, Region 1 (New England Region), One Congress Street, Boston, Massachusetts 02114. During the public comment period, the proposed consent decree may also be examined on the following Department of Justice Web site, http://www.usdoj.gov/enrd/Consent_Decrees.html. A copy of the proposed consent decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. If requesting a copy of the proposed consent decree, please so note and enclose a check in the amount of $27.50 (25 cent per page reproduction cost) payable to the U.S. Treasury.

Ronald Gluck,
Assistant Chief, Environmental Enforcement Section, Environment and Natural Resources Division.

[FR Doc. 07-4903 Filed 10-3-07; 8:45 am]

BILLING CODE 4410-15-M